DEPARTMENT OF HEALTH AND HUMAN SERVICES

National Institutes of Health

National Institute of Diabetes and Digestive and Kidney Diseases; Diabetes Mellitus Interagency Coordinating Committee; Notice of Meeting

The Diabetes Mellitus Interagency Coordinating Committee (DMICC) will hold a meeting on Tuesday, December 2, 2008, on the NIH campus, Building 31, C-wing, Conference Room 6, Bethesda, Maryland 20892 from 12:30 p.m. to approximately 4:30 p.m. The meeting will be open to the public, with attendance limited to space available. Individuals who plan to attend and need special assistance, such as sign language interpretation or other reasonable accommodations, should inform the Contact Person listed below at least 10 days in advance of the meeting.

The DMICC facilitates cooperation, communication, and collaboration on diabetes among government entities. DMICC meetings, held several times annually, provide an opportunity for members to learn about and discuss current and future diabetes programs in DMICC member organizations and to identify opportunities for collaboration. The topic of the December meeting will be “Using Data from Managed Care Systems to Drive Improved Therapy of Diabetes.”

Please Note: The NIH has instituted security measures to ensure the safety of NIH employees and property. All visitor vehicles, including taxicabs, hotel, and airport shuttles will be inspected before being allowed on campus. Visitors will be asked to show one form of identification (for example, a government-issued photo ID, driver's license, or passport). All visitors should be prepared to have their personal belongings inspected and to go through metal detection inspection. Visitors are strongly encouraged to take public transportation to the NIH campus as there are very few visitor parking spaces available. Building 31 is a 10-minute walk from the Medical Center Station on the Red Line of the Metro.

A registration link and information about the DMICC meeting will be available on the DMICC Web site: http://www2.niddk.nih.gov/AboutNIDDK/CommitteesAndWorkingGroups/DMICC/Default.htm.

For further information concerning this meeting contact Dr. Sanford Garfield, Executive Secretary of the Diabetes Mellitus Interagency Coordinating Committee, National Institute of Diabetes and Digestive and Kidney Diseases, 6707 Democracy Boulevard, Room 654, MSC 5460, Bethesda, MD 20892-5460, Telephone: 301-594-8803 FAX: 301-402-6271, E-mail: garfields@mail.nih.gov.

Dated: October 28, 2008.
Sanford Garfield,
Executive Secretary, DMICC, Division of Diabetes, Endocrinology and Metabolic Diseases, NIDDK, National Institutes of Health.

[FR Doc. E8-26333 Filed 11-4-08; 8:45 am]

BILLING CODE 4140-01-P